Title 3—

The President

Proclamation 8041 of August 22, 2006

Minority Enterprise Development Week, 2006

By the President of the United States of America

A Proclamation

During Minority Enterprise Development Week, we celebrate the outstanding progress made by minority business owners, recognize their important contributions to our Nation's vibrant economy, and emphasize our commitment to helping them succeed.

Throughout our country, minority entrepreneurs strengthen our economic growth and keep our Nation moving forward. As Ronald Reagan said, entrepreneurs are the “explorers of the modern era,” and minority business owners help expand opportunities for their communities and their fellow citizens. A free society in which people have the opportunity to pursue their goals, no matter who they are or where they are from, is a stronger and more just society.

Over the past 3 years, our economy has grown by nearly $1.3 trillion, and minority businesses have contributed to that growth. Since 2001, my Administration has worked with the Congress to deliver the largest tax relief in two decades, leaving more money for minority business owners to reinvest. We are also undertaking initiatives to widen the ownership of businesses. With these resources, minority enterprises are hiring more employees, improving their communities, and helping fuel our country's economic resurgence.

Minority businesses throughout our Nation remain strong, and our country benefits from the positive impact they have on our economy. Minority business owners represent the hopeful spirit of America, and all across this land, Americans continue to achieve their dreams and build better futures for themselves and their families. During Minority Enterprise Development Week, we underscore our commitment to helping entrepreneurs realize the promise of our great Nation.

NOW, THEREFORE, I, GEORGE W. BUSH, President of the United States of America, by virtue of the authority vested in me by the Constitution and laws of the United States, do hereby proclaim August 27 through September 2, 2006, as Minority Enterprise Development Week. I call upon all Americans to celebrate this week with appropriate programs, ceremonies, and activities to recognize the many contributions of our Nation's minority enterprises.

IN WITNESS WHEREOF, I have hereunto set my hand this twenty-second day of August, in the year of our Lord two thousand six, and of the Independence of the United States of America the two hundred and thirty-first.

[FR Doc. 06-7208

Filed 8-24-06; 8:46 am]

Billing code 3195-01-P